Executive Order 13395 of January 13, 2006

Designating the Global Fund To Fight AIDS, Tuberculosis and Malaria as a Public International Organization Entitled To Enjoy Certain Privileges, Exemptions, and Immunities

By the authority vested in me as President by the Constitution and the laws of the United States of America, including sections 1 and 16 of the International Organizations Immunities Act (22 U.S.C. 288 and 288f-6), it is hereby ordered as follows:

Section 1. Designation. The Global Fund to Fight AIDS, Tuberculosis and Malaria (Global Fund) is hereby designated as a public international organization entitled to enjoy the privileges, exemptions, and immunities provided by the International Organizations Immunities Act.

Sec. 2. Non-Abridgement. The designation in section 1 is not intended to abridge in any respect privileges, exemptions, or immunities that the Global Fund otherwise may have acquired or may acquire by law.

B

THE WHITE HOUSE,

January 13, 2006.

[FR Doc. 06-554

Filed 1-18-06; 9:23 am]

Billing code 3195-01-P